DEPARTMENT OF COMMERCE

National Oceanic and Atmospheric Administration

RIN 0648-XG208

Mid-Atlantic Fishery Management Council (MAFMC); Public Meeting

AGENCY: National Marine Fisheries Service (NMFS), National Oceanic and Atmospheric Administration (NOAA), Commerce.

ACTION: Notice; public meeting.

SUMMARY: The Atlantic Mackerel, Squid, and Butterfish (MSB) Committee and MSB Advisory Panel of the Mid-Atlantic Fishery Management Council (Council) will hold a joint meeting via webinar.

DATES: The meeting will be held on Thursday, May 17, 2018 beginning at 8:30 a.m. and conclude by noon. For agenda details, see SUPPLEMENTARY INFORMATION.

ADDRESSES: The meeting will be held via webinar with a telephone-only audio connection. Connection details are posted at http://www.mafmc.org/council-events/2018/joint-msb-committee-ap-meeting.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is to develop recommendations for the Council regarding modifications to the Atlantic mackerel commercial fishery closure possession limits. Currently no Atlantic mackerel possession is allowed by federally-permitted commercial vessels once 100% of the commercial landings quota is reached. The Council is considering changing the trip limit once 100% of the commercial landings quota is reached. The Council is scheduled to take final action on this issue at its June 2018 Council meeting via a Framework Adjustment to the MSB Fishery Management Plan.

Special Accommodations

The meeting is physically accessible to people with disabilities. Requests for sign language interpretation or other auxiliary aid should be directed to M. Jan Saunders, (302) 526-5251, at least 5 days prior to any meeting date.

Dated: April 30, 2018.
Tracey L. Thompson,
Acting Deputy Director, Office of Sustainable Fisheries, National Marine Fisheries Service.

[FR Doc. 2018-09394 Filed 5-2-18; 8:45 am]

BILLING CODE 3510-22-P